DEPARTMENT OF THE INTERIOR

Fish and Wildlife Service

50 CFR Part 17

[FWS-R2-ES-2009-0004; 92210-1111-0000-B3]

Endangered and Threatened Wildlife and Plants; Initiation of Status Review for the Roundtail Chub (Gila robusta) in the Lower Colorado River Basin

AGENCY: Fish and Wildlife Service, Interior.

ACTION: Notice; initiation of status review and solicitation of new information.

SUMMARY: We, the U.S. Fish and Wildlife Service (Service), announce the initiation of a status review for the roundtail chub (Gila robusta) in the lower Colorado River basin. Through this action, we encourage all interested parties to provide us information regarding the status of, and any potential threats to, the roundtail chub. We request information on the status of roundtail chub throughout the range of the species, in order to evaluate a petition to list a distinct population segment (DPS) in the lower Colorado River basin.

DATES: To allow us adequate time to conduct this review, we request that we receive information on or before April 2, 2009.

ADDRESSES: You may submit information by one of the following methods:

• Federal eRulemaking Portal: http://www.regulations.gov. Follow the instructions for submitting comments.

• U.S. mail or hand-delivery: Public Comments Processing, Attn: FWS-R2-ES-2009-0004; Division of Policy and Directives Management; U.S. Fish and Wildlife Service; 4401 N. Fairfax Drive, Suite 222; Arlington, VA 22203.

We will not accept e-mail or faxes. We will post all information on http://www.regulations.gov. This generally means that we will post any personal information you provide us (see the Information Solicited section below for more information).

FOR FURTHER INFORMATION CONTACT: Steve Spangle, Field Supervisor, Arizona Ecological Services Office, 2321 West Royal Palm Road, Suite 103, Phoenix, AZ 85021-4951; telephone 602-242-0210; facsimile 602-242-2513. If you use a telecommunications device for the deaf (TDD), call the Federal Information Relay Service (FIRS) at 800-877-8339.

SUPPLEMENTARY INFORMATION:

Information Solicited

To ensure that the status review is complete and based on the best available scientific and commercial information, we are soliciting information concerning the status of the roundtail chub (Gila robusta). Information gained during this process will be used to evaluate whether the lower Colorado River basin population of roundtail chub is a distinct population segment (DPS) as described in our Policy Regarding the Recognition of Distinct Vertebrate Population Segments Under the Endangered Species Act (DPS Policy; 61 FR 4722, February 7, 1996), and if listing as threatened or endangered is warranted under the Endangered Species Act of 1973, as amended (Act; 16 U.S.C. 1531 et seq.). We request information from the public, other concerned governmental agencies, Native American Tribes, the scientific community, industry, or any other interested parties on the status of the roundtail chub throughout its range, including:

(1) Information from the United States and Mexico regarding the species' historical and current population status, distribution, and trends; taxonomy; genetics; biology and ecology; and habitat selection.

(2) Information that supports or refutes the appropriateness of considering the lower Colorado River basin population of roundtail chub to be discrete, as defined in the DPS Policy, including, but not limited to:

(a) Information indicating that lower Colorado River basin roundtail chub are markedly separated from other populations of roundtail chub due to physical, physiological, ecological, or behavioral factors.

(b) Information indicating whether or not the lower Colorado River basin population of roundtail chub is delimited by international governmental boundaries within which significant differences in control of exploitation, management of habitat, conservation status, or regulatory mechanisms exist.

(3) Information that supports or refutes the appropriateness of considering the lower Colorado River basin population of roundtail chub to be significant, as defined in the DPS Policy, including, but not limited to:

(a) Information indicating that the ecological setting, including such factors as temperature, moisture, weather patterns, plant communities, etc., in which the lower Colorado River basin population of roundtail chub persists is unusual or unique when compared to that of roundtail chub found elsewhere in the United States or Mexico.

(b) Information indicating that loss of the lower Colorado River basin population of roundtail chub would or would not result in a significant gap in the range of the taxon.

(c) Information indicating that the lower Colorado River basin population of roundtail chub differs markedly from other populations of roundtail chub in its genetic characteristics.

(4) Information on the effects of potential threat factors in the United States and Mexico that are the basis for a listing determination under section 4(a) of the Act, which are:

(a) The present or threatened destruction, modification, or curtailment of the subspecies' habitat or range;

(b) Overutilization for commercial, recreational, scientific, or educational purposes;

(c) Disease or predation;

(d) The inadequacy of existing regulatory mechanisms; or

(e) Other natural or manmade factors affecting its continued existence.

Please note that submissions merely stating support or opposition to the action under consideration without providing supporting information, although noted, will not be considered in making a determination, because section 4(b)(1)(A) of the Act directs that determinations as to whether any species is a threatened or endangered species must be made “solely on the basis of the best scientific and commercial data available.” At the conclusion of the status review, we will determine whether listing is warranted, not warranted, or warranted but precluded by other pending proposals.

You may submit your information concerning this status review by one of the methods listed in the ADDRESSES section. We will not consider submissions sent by e-mail or fax or to an address not listed in the ADDRESSES section.

If you submit information via http://www.regulations.gov, your entire submission—including any personal identifying information—will be posted on the Web site. If your submission is made via a hardcopy that includes personal identifying information, you may request at the top of your document that we withhold this personal identifying information from public review. However, we cannot guarantee that we will be able to do so. We will post all hardcopy submissions on http://www.regulations.gov.

Information and materials we receive will be available for public inspection on http://www.regulations.gov, or by appointment, during normal business hours, at the U.S. Fish and Wildlife Service, Arizona Ecological Services Office (see FOR FURTHER INFORMATION CONTACT).

Background

Section 4(b)(3)(A) of the Act requires that we make a finding on whether a petition to list, delist, or reclassify a species presents substantial scientific or commercial information indicating that the petitioned action may be warranted. We are to base this finding on information provided in the petition and supporting information submitted with the petition. To the maximum extent practicable, we are to make this finding within 90 days of our receipt of the petition and publish our notice of the finding promptly in the Federal Register. Section 4(b)(3)(B) also requires that, for any petition to revise the Lists of Threatened and Endangered Wildlife and Plants that contains substantial scientific or commercial information that the action may be warranted, we make a finding within 12 months of the date of the receipt of the petition on whether the petitioned action is: (a) Not warranted, (b) warranted, or (c) warranted but precluded by other pending proposals. Such 12-month findings are to be published promptly in the Federal Register.

On April 14, 2003, we received a petition from the Center for Biological Diversity requesting that we list a DPS of the roundtail chub in the lower Colorado River basin as endangered or threatened, that we list the headwater chub (Gila nigra) as endangered or threatened, and that we designate critical habitat concurrently with the listing for both species. On July 12, 2005, we published our 90-day finding that the petition presented substantial scientific information indicating that listing the headwater chub and a DPS of the roundtail chub in the lower Colorado River basin may be warranted and initiated a 12-month status review (70 FR 39981).

On May 3, 2006, we published our 12-month finding that listing was warranted for the headwater chub, but precluded by higher priority listing actions, and that listing of a DPS of the roundtail chub in the lower Colorado River basin was not warranted because populations of roundtail chub in the lower Colorado River basin did not meet our definition of a DPS (71 FR 26007).

On September 7, 2006, we received a complaint from the Center for Biological Diversity for declaratory and injunctive relief, challenging our decision not to list the lower Colorado River basin population of the roundtail chub as an endangered species under the Act. On November 5, 2007, in a stipulated settlement agreement, we agreed to commence a new status review of the lower Colorado basin population of the roundtail chub and to submit a 12-month finding to the Federal Register by June 30, 2009.

At this time, we are soliciting new information on the status of and potential threats to the roundtail chub. We will base our new determination as to whether listing of a DPS for roundtail chub in the lower Colorado River basin is warranted on a review of the best scientific and commercial information available, including all information we receive as a result of this notice. For more information on the biology, habitat, and range of the roundtail chub, please refer to our previous 90-day finding published in the Federal Register on July 12, 2005 (70 FR 39981), and our previous 12-month finding published in the Federal Register on May 3, 2006 (71 FR 26007).

Author

The primary authors of this notice are the staff members of the Arizona Ecological Services Office.

Authority: The authority for this action is the Endangered Species Act of 1973, as amended (16 U.S.C. 1531 et seq.).

Dated: February 20, 2009.
Ken Stansell,
Acting Director, U.S. Fish and Wildlife Service.

[FR Doc. E9-4155 Filed 3-2-09; 8:45 am]

BILLING CODE 4310-55-P